DEPARTMENT OF ENERGY

Office of Nonproliferation Policy; Proposed Subsequent Arrangement

AGENCY: Department of Energy.

ACTION: Subsequent arrangement.

SUMMARY: This notice has been issued under the authority of Section 131 of the Atomic Energy Act of 1954, as amended (42 U.S.C. 2160). The Department is providing notice of a proposed “subsequent arrangement” under the Agreement for Cooperation Concerning Civil Uses of Atomic Energy between the United States and Canada and Agreement for Cooperation in the Peaceful Uses of Nuclear Energy between the United States and the European Atomic Energy Community (EURATOM).

This subsequent arrangement concerns the retransfer of 147,929 kg of U.S.-origin natural uranium hexafluoride, 100,000 kg of which is uranium, from Cameco Corporation, Port Hope, Ontario, Canada, to Eurodif SA, Velizy France. The material, which is now located at Cameco Corp., Port Hope, Ontario, will be transferred to Eurodif for enrichment. Upon completion of the enrichment, the material will be used at Electricite de France, Delegation aux Combustibles as reactor fuel. Cameco Corp. originally obtained the uranium hexafluoride under Export License Number XSOU-8744.

In accordance with Section 131 of the Atomic Energy Act of 1954, as amended, we have determined that this subsequent arrangement is not inimical to the common defense and security.

This subsequent arrangement will take effect no sooner than August 26, 2004.

Dated: August 5, 2004.
For the Department of Energy.
Kurt Siemon,
Acting Director, Office of Nonproliferation Policy.

[FR Doc. 04-18366 Filed 8-10-04; 8:45 am]

BILLING CODE 6450-01-P